ENVIRONMENTAL PROTECTION AGENCY

40 CFR Parts 51 and 93

[EPA-HQ-OAR-2006-0669; FRL-8536-1]

RIN-2060-AH93

Revisions to the General Conformity Regulations

AGENCY: Environmental Protection Agency (EPA).

ACTION: Notice of public hearing and corrected docket number.

SUMMARY: The EPA is announcing a public hearing to be held on March 14, 2008 for the proposed rule on “Revision to the General Conformity Regulations.” This rulemaking action was published in the Federal Register on January 8, 2008 and proposes to revise EPA's regulations relating to the Clean Air Act (CAA) requirements that Federal Actions conform to the appropriate State, Tribal or Federal implementation plan for attaining clean air (“general conformity”). The public hearing will provide interested parties the opportunity to present data, views, or arguments concerning these proposed changes. EPA is also correcting the docket number published in the January 8, 2008 proposed rulemaking. In the January 8, 2008 Revisions to the General Conformity Regulations: Proposed Rule, there was an error made in citing the docket number. The appropriate docket number for the January 8, 2008 proposed rulemaking is EPA-HQ-OAR-2006-0669. Please submit all comments to docket number EPA-HQ-OAR-2006-0669 when commenting on the January 8, 2008 proposed rule.

DATES: The public hearing will convene at 9 a.m. on March 14, 2008, and continue until 1 hour after the last registered speaker has spoken. People wishing to present oral testimony must pre-register by 5 p.m. on March 11, 2008. For updates and additional information on the public hearing, please check EPA's Web site for this rulemaking at http://www.epa.gov.oar/gencomform/.

ADDRESSES: The public hearing will be held at U.S. Environmental Protection Agency, East Building, Room 1153, 1200 Pennsylvania Ave., Washington, DC 20004. Because this hearing is being held at U.S. government facilities, everyone planning to attend the hearing should be prepared to show valid picture identification to the security staff in order to gain access to the meeting room. In addition, you will need to obtain a property pass for any personal belongings you bring with you. Upon leaving the building, you will be required to return this property pass to the security desk. No large signs will be allowed in the building, cameras may only be used inside the classroom and outside of the building and demonstrations will not be allowed on Federal property for security reasons.

FOR FURTHER INFORMATION CONTACT: If you would like to speak at the public hearing or have questions concerning the public hearing, please contact Ms. Pamela Long, U.S. Environmental Protection Agency, OAQPS, Air Quality Planning Division (C504-03), Research Triangle Park, NC 27711, telephone (919) 541-0641, fax number (919) 541-5509, e-mail address long.pam@epa.gov.

Questions concerning the January 8, 2008, proposed rule should be addressed to Mr. Tom Coda, U.S. EPA, Office of Air Quality Planning and Standards, Air Quality Policy Division, (C504-03), Research Triangle Park, NC 27711, telephone number (919) 541-3307, e-mail at coda.tom@epa.gov.

SUPPLEMENTARY INFORMATION: The January 8, 2008, proposed rule proposes to revise its regulations relating to the Clean Air Act (CAA) requirement that Federal actions conform to the appropriate State, Tribal or Federal implementation plan for attaining clean air (“general conformity”). EPA has only revised the General Conformity Regulations once since they were promulgated in 1993 to include de minimis emission levels for fine particulate matter and its precursors (July 17, 2006). Over this period, States, EPA and other Federal agencies have gained experience with the implementation of the existing regulations and have identified several issues with their implementation. In addition, in 2004, EPA issued regulations to implement the revised ozone standard and in 2007, issued regulations to implement the new fine particulate matter standard. These regulations affect the timing and process for general conformity determinations. State and other air quality agencies are in the process of developing revised plans to attain the new standards and the proposed revisions to the General Conformity Regulations will be helpful to the State, Tribe, and local agencies as well as the Federal agencies in developing and commenting on the proposed SIP revisions. This proposed rule revision provides for a streamline process for Federal agencies and States and Tribes to collaborate and ensure Federal activities are incorporated in these State implementation plans. Where that is not possible, it provides an efficient and effective process for Federal agencies to ensure their actions do not cause or contribute to a violation of the national ambient air quality standards (NAAQS) or interfere with the purpose of a State, Tribal or Federal implementation plan to attain or maintain the NAAQS.

Public hearing: The proposal for which EPA is holding the public hearing was published in the Federal Register on January 8, 2008, (73 FR 1402) and is available at: http://www.epa.gov/oar/genconform/regs.htm. The public hearing will provide interested parties the opportunity to present data, views, or arguments concerning the supplemental rule proposal. The EPA may ask clarifying questions during the oral presentations, but will not respond to the presentations at that time. Written statements and supporting information submitted during the comment period will be considered with the same weight as any oral comments and supporting information presented at the public hearing. Written comments on the proposed rule were requested to be postmarked by March 10, 2008, which is the closing date for the comment period, as specified in the proposal for the rule. However, the record will remain open until April 14, 2008, to allow 30 days after the public hearing for submittal of additional information.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedule, including lists of speakers, will be posted on EPA's Web site http://www.epa.gov/oar/genconform/regs.htm. Verbatim transcripts of the hearing and written statements will be included in the docket for the rulemaking.

How Can I Get Copies of This Document and Other Related Information?

The EPA has established the official public docket for the supplemental proposed rule entitled “Revisions to the General Conformity” under Docket ID No. EPA-HQ-OAR-2006-0669. In the January 8, 2008, 73 FR 1402, Revisions to the General Conformity Regulations: Proposed Rule, there was an error made in citing the docket number. The appropriate docket number for the January 8, 2008 proposed rulemaking is EPA-HQ-OAR-2006-0669. Please submit all comments to docket number EPA-HQ-OAR-2006-0669 when commenting on the January 8, 2008 proposed rule.

As stated previously, the proposed rule was published in the Federal Register on January 8, 2008 (73 FR 1402) and is available at http://www.epa.gov/oar/genconform/regs.htm.

Dated: February 22, 2008.
Jenny N. Edmonds,
Acting Director, Office of Air Quality Planning and Standards.

[FR Doc. E8-4031 Filed 2-29-08; 8:45 am]

BILLING CODE 6560-50-P